DEPARTMENT OF ENERGY

Federal Energy Regulatory Commission

Combined Notice of Filings

Take notice that the Commission has received the following Natural Gas Pipeline Rate and Refund Report filings:

Filings Instituting Proceedings

Docket Numbers: RP12-148-000.

Applicants: Southern Natural Gas Company, L.L.C.

Description: Southern Natural Gas Company, L.L.C. submits Annual Report on Operational Transactions Compliance Filing.

Filed Date: 11/20/12.

Accession Number: 20121120-5034.

Comments Due: 5 p.m. ET 12/3/12.

Docket Numbers: RP13-302-000.

Applicants: Gulf South Pipeline Company, LP.

Description: Devon 34694-12 Amendment to Neg Rate Agmt to be effective 11/27/2012.

Filed Date: 11/20/12.

Accession Number: 20121120-5050.

Comments Due: 5 p.m. ET 12/3/12.

Docket Numbers: RP13-303-000.

Applicants: Questar Overthrust Pipeline Company.

Description: Request for Waiver of Questar Overthrust Pipeline Company.

Filed Date: 11/20/12.

Accession Number: 20121120-5220.

Comments Due: 5 p.m. ET 12/3/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1064-001.

Applicants: Venice Gathering System, L.L.C.

Description: Order Number 587-V Compliance Filing to be effective 12/1/2012.

Filed Date: 11/20/12.

Accession Number: 20121120-5175.

Comments Due: 5 p.m. ET 12/3/12.

Docket Numbers: RP13-108-001.

Applicants: TransColorado Gas Transmission Company L.

Description: Compliance with Order in Compliance with Order No. 587-V to be effective 12/1/2012.

Filed Date: 11/20/12.

Accession Number: 20121120-5186.

Comments Due: 5 p.m. ET 12/3/12.

Docket Numbers: RP13-21-001.

Applicants: CenterPoint Energy Gas Transmission Comp.

Description: CEGT LLC—NAESB Version 2.0 Compliance Filing to be effective 12/1/2012.

Filed Date: 11/20/12.

Accession Number: 20121120-5066.

Comments Due: 5 p.m. ET 11/26/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 21, 2012.
Nathaniel J. Davis, Sr.,
Deputy Secretary.

[FR Doc. 2012-28964 Filed 11-29-12; 8:45 am]

BILLING CODE 6717-01-P